DEPARTMENT OF THE INTERIOR

Bureau of Land Management

[NV-960-1060-PF-01-24 1A]

OMB Approval Number 1004-0042; Information Collection Submitted to the Office of Management and Budget Under the Paperwork Reductions Act

The Bureau of Land Management (BLM) has submitted the proposed collection of information listed below to the Office of Management and Budget (OMB) for approval under provisions of the Paperwork Reduction Act (44 U.S.C. 3501 et seq.). On December 11, 2000, the BLM published a notice in the Federal Register (65 FR 77387) requesting comments on this proposed collection. The comment period ended on February 9, 2001. The BLM received no comments from the public in response to that notice. You may obtain copies of the proposed collection of information and related forms and explanatory material by contacting the BLM Information Collection Clearance Officer at the telephone number listed below.

The OMB is required to respond to this request within 60 days but may respond after 30 days. For maximum consideration your comments and suggestions on the requirement should be made within 30 days directly to the Office of Management and Budget, Interior Department Desk Officer, (1004-0042), Office of Information and Regulatory Affairs, Washington, DC 20503. Please provide a copy of your comments to the Bureau Information Clearance Officer (WO-630), 1849 C St., NW., Mail Stop 401 LS, Washington, DC 20240.

Nature of Comments: We specifically request your comments on the following:

1. Whether the collection of information is necessary for the proper functioning of the BLM, including whether the information will have practical utility;

2. The accuracy of the BLM's estimate of the burden of collecting the information, including the validity of the methodology and assumptions used;

3. The quality, utility and clarity of the information to be collected; and

4. How to minimize the burden of collecting the information on those who are to respond, including the use of appropriate automated electronic, mechanical, or other forms of information technology.

Title: Application for Adoption of Wild Horse(s) or Burro(s) (43 CFR 4700).

OMB Approval Number: 1004-0042.

Bureau Form Number: 4710-10.

Abstract: BLM requires specific information must be furnished by individuals who wish to adopt a wild horse or burro. BLM uses this information to determine if the individuals qualify and are eligible to provide humane care and proper treatment of these animals.

Frequency: Once, on occasion.

Description of Respondents: Respondents are individuals who wish to adopt a wild horse or burro from the BLM.

Estimated Completion Time: 10 minutes.

Annual Responses: 30,000.

Filing Fee Per Response: $125 (this fee is not considered a filing fee, but we use the money for room, board, and veterinary care of the animal while under BLM management).

Annual Burden Hours: 5,000.

Bureau Clearance Officer: Michael Schwartz, (202) 452-5033.

Dated: March 7, 2001.
Michael H. Schwartz,
BLM Information Collection Clearance Officer.

[FR Doc. 01-11694 Filed 5-8-01; 8:45 am]

BILLING CODE 4310-84-M